DEPARTMENT OF ENERGY

Federal Energy Regulatory Commission

Combined Notice of Filings #2

Take notice that the Commission received the following electric corporate filings:

Docket Numbers: EC18-41-000.

Applicants: AES Ohio Generation, LLC, Kimura Power, LLC.

Description: Application of Kimura Power, LLC et al. for Authorization under Section 203 of the Federal Power Act, Request for Expedited Action and Request for Confidential Treatment.

Filed Date: 12/26/17.

Accession Number: 20171226-5033.

Comments Due: 5 p.m. ET 1/16/18.

Take notice that the Commission received the following electric rate filings:

Docket Numbers: ER10-1585-011; ER10-1594-011; ER16-733-002; ER10-1617-011; ER10-1619-005; ER10-1620-007; ER16-1148-002; ER10-1625-007; ER12-60-013; ER10-1632-013; ER10-1628-011.

Applicants: Alabama Electric Marketing, LLC, California Electric Marketing, LLC, LQA, LLC, New Mexico Electric Marketing, LLC, Tenaska Alabama Partners, L.P., Tenaska Alabama II Partners, L.P., Tenaska Energía de Mexico, S. de R. L. de, C.V., Tenaska Power Management, LLC, Tenaska Power Services Co., Tenaska Georgia Partners, L.P., Texas Electric Marketing, LLC.

Description: Updated Market Power Analysis in the Southeast Region of the Tenaska MBR Sellers.

Filed Date: 12/22/17.

Accession Number: 20171222-5298.

Comments Due: 5 p.m. ET 2/20/18.

Docket Numbers: ER10-1827-006; ER10-1533-016.

Applicants: Cleco Power LLC, Macquarie Energy LLC.

Description: Updated Market Power Analysis for the Central Region of Cleco Power LLC, et. al.

Filed Date: 12/22/17.

Accession Number: 20171222-5301.

Comments Due: 5 p.m. ET 2/20/18.

Docket Numbers: ER12-162-019; ER13-1266-016; ER11-2044-024; ER15-2211-013.

Applicants: Bishop Hill Energy II LLC, CalEnergy, LLC, MidAmerican Energy Company, MidAmerican Energy Services, LLC.

Description: Central Region Triennial Market Power Analysis and Notice of Change in Status under Market-Based Rate Authority.

Filed Date: 12/21/17.

Accession Number: 20171221-5399.

Comments Due: 5 p.m. ET 2/20/18.

Docket Numbers: ER17-615-003: ER10-2184-027; ER10-2192-032; ER10-2178-032; ER11-2014-025; ER11-2013-025; ER13-1536-016; ER11-2005-025.

Applicants: Albany Green Energy, LLC, CER Generation, LLC, Constellation Energy Commodities Group Maine, LLC, Constellation NewEnergy, Inc., Cow Branch Wind Power, LLC, CR Clearing, LLC, Exelon Generation Company, LLC, Wind Capital Holdings, LLC.

Description: Updated Market Power Analysis for the Southeast Region of the Exelon Southeast Entities.

Filed Date: 12/22/17.

Accession Number: 20171222-5303.

Comments Due: 5 p.m. ET 2/20/18.

Docket Numbers: ER18-539-000.

Applicants: New England Power Pool Participants Committee.

Description: § 205(d) Rate Filing: Jan 2018 Membership Filing to be effective 12/1/2017.

Filed Date: 12/26/17.

Accession Number: 20171226-5059.

Comments Due: 5 p.m. ET 1/16/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 26, 2017.
Nathaniel J. Davis, Sr.,
Deputy Secretary.

[FR Doc. 2017-28273 Filed 12-29-17; 8:45 am]

BILLING CODE 6717-01-P